DEPARTMENT OF THE INTERIOR

Bureau of Land Management

[OR-014-01-1610-PG; GP 2-0355]

Klamath Provincial Advisory Committee, Meeting Notice

AGENCY: Bureau of Land Management, Klamath Falls Resource Area.

ACTION: Meeting notice for the Klamath Provincial Advisory Committee.

SUMMARY: The Klamath Provincial Advisory Committee will meet at the North State Blood Center, 1876 Park Marina Drive, Redding, CA 96001 on Thursday, September 12, 2002 from 9:30 a.m. to 4 p.m. Suggested topics include:

• Effectiveness Monitoring,

• Restoration efforts in the basin, and

• PAC membership.

Information to be distributed to the committee members is requested ten (10) days prior to the start of the meeting.

The entire meeting is open to the public. Opportunities for public comment are scheduled for 11:30 a.m. to 12 noon and 3 to 3:30 p.m.

FOR FURTHER INFORMATION CONTACT: Additional information concerning the Klamath Provincial Advisory Committee may be obtained from Teresa Raml, Field Manager, Klamath Falls Resource Area, 2795 Anderson Ave., Building 25, Klamath Falls, OR 97603, Phone Number 541-883-6916, FAX 541-884-2097, or e-mail traml@or.blm.gov.

Dated: August 12, 2002.
Donald K. Hoffheins,
Acting Field Manager, Klamath Falls Resource Area.

[FR Doc. 02-21517 Filed 8-22-02; 8:45 am]

BILLING CODE 4310-33-M